DEPARTMENT OF THE INTERIOR

Bureau of Ocean Energy Management

[OMB Control Number 1010-0151]

Information Collection: Plans and Information; Proposed Collection for OMB Review; Comment Request; MMAA104000

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under 30 CFR 550, Subpart B, Plans and Information.

DATES: Submit written comments by August 8, 2014.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0151 in your comment and include your name and return address.

FOR FURTHER INFORMATION CONTACT: Arlene Bajusz, Office of Policy, Regulations, and Analysis at (703) 787-1025 to request a copy of the ICR and forms.

SUPPLEMENTARY INFORMATION:

OMB Control Number: 1010-0151.

Title: 30 CFR 550, Subpart B, Plans and Information.

Forms: BOEM-0137, BOEM-0138, BOEM-0139, BOEM-0141, BOEM-0142.

Abstract: The Outer Continental Shelf (OCS) Lands Act, as amended (43 U.S.C. 1331 et seq. and 43 U.S.C. 1801 et seq.), authorizes the Secretary of the Interior to prescribe rules and regulations to administer leasing of mineral resources on the OCS. Such rules and regulations apply to all operations conducted under a lease, right-of-use and easement, or unit. The OCS Lands Act, at U.S.C. §§ 1340 and 1351, requires the holders of OCS oil and gas or sulphur leases to submit exploration plans (EPs) and development and production plans (DPPs) to the Secretary for approval prior to commencing these activities. Also, as a Federal agency, we have a continuing affirmative duty to comply with the Endangered Species Act (ESA). This includes a substantive duty to carry out any agency action in a manner that is not likely to jeopardize protected species as well as a procedural duty to consult with the United States Fish and Wildlife Service (FWS) and National Oceanic and Atmospheric Administration Fisheries (NOAA Fisheries) before engaging in a discretionary action that may affect a protected species.

This authority and responsibility are among those delegated to BOEM. The regulations at 30 CFR 550, Subpart B, concern plans and information that must be submitted to conduct activities on a lease, right-of-use and easement, or unit and are the subject of this collection. The collection also covers the related Notices to Lessees and Operators (NTLs) that BOEM issues to clarify, supplement, or provide additional guidance on some aspects of our regulations.

BOEM geologists, geophysicists, and environmental scientists and other Federal agencies (e.g., FWS, NOAA Fisheries) analyze and evaluate the information and data collected under Subpart B to ensure that planned operations are safe; will not adversely affect the marine, coastal, or human environment; and will conserve the resources of the OCS. We use the information to: (a) Make an informed decision on whether to approve the proposed exploration or development and production plan as submitted, or whether modifications are necessary without the analysis and evaluation of the required information. The affected States also review the information collected to determine consistency with approved Coastal Zone Management (CZM) plans and (b) report annually to NOAA Fisheries the effectiveness of mitigation, any adverse effects of the proposed action, and any incidental take, in accordance with 50 CFR 402.14(i)(3).

The following forms are submitted to BOEM under Subpart B.

BOEM-0137—Plan Information Form is submitted to summarize plan information. BOEM uses the information to review and evaluate submitted OCS plans. In this renewal, BOEM is modifying the form to clarify the wording of some fields, remove redundant fields, and make some minor formatting adjustments. We do not expect any change in the hour burden as a result.

BOEM-0138—GOM Air Emission Calculations for Exploration Plans and BOEM-0139—GOM Air Emission Calculations for Development Operations Coordination Documents (DOCDs) are submitted to standardize the way potential air emissions are estimated and approved as part of the OCS plan. BOEM uses the data from these forms to determine the effect of air emissions on the environment.

BOEM-0141—ROV Survey Report is submitted to report the observations and information recorded from two sets of ROV monitoring surveys to identify high-density benthic communities that may occur on the seafloor in deep water. BOEM uses the information to help design mitigation measures to avoid these areas and to help assess the effectiveness of avoidance criteria.

BOEM-0142—Environmental Impact Analysis Worksheet identifies the environmental impact-producing factors for the listed environmental resources. BOEM uses the information to help assess impacts and determine compliance with the National Environmental Policy Act.

We will protect information considered proprietary under the Freedom of Information Act (5 U.S.C. 552) and its implementing regulations (43 CFR part 2), 30 CFR 550.197, “Data and information to be made available to the public or for limited inspection,” and 30 CFR part 552, “Outer Continental Shelf (OCS) Oil and Gas Information Program.” No items of a sensitive nature are collected. Responses are mandatory.

Frequency: On occasion, semi-monthly, and varies by section.

Description of Respondents: Potential respondents comprise Federal OCS oil, gas, or sulphur lessees and operators.

Estimated Reporting and Recordkeeping Hour Burden: We expect the estimated annual reporting burden for this collection to be 429,142 hours. The following table details the individual components and respective hour burden estimates of this ICR.

BILLING CODE: 4310-MR-P

Estimated Reporting and Recordkeeping Non-Hour Cost Burden: We have identified three non-hour costs associated with this information collection that are cost recovery fees. They consist of fees being submitted with EP's ($3,673), DPP's or DOCD's ($4,238), and CID's ($27,348).

There is also one non-hour cost burden associated with the protected Species Observer Program. The cost associated with this program is due to observation activities that are usually subcontracted to other service companies with expertise in these areas (see above table). The total non-hour cost burden for this collection is $3,923,613.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

If you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: May 29, 2014.
Deanna Meyer-Pietruszka,
Chief, Office of Policy, Regulations, and Analysis.

[FR Doc. 2014-13278 Filed 6-6-14; 8:45 am]

BILLING CODE 4310-MR-P